DEPARTMENT OF COMMERCE

International Trade Administration

A-580-825

Oil Country Tubular Goods, Other Than Drill Pipe, from Korea: Final Results of Antidumping Duty Administrative Review AGENCY: Import Administration, International Trade Administration, U.S. Department of Commerce

SUMMARY: On September 11, 2007, the Department of Commerce (“the Department”) published the preliminary results of the administrative review of the antidumping duty order on oil country tubular goods, other than drill pipe (“OCTG”), from Korea for the period (“POR”) August 1, 2005 through July 25, 2006. See Oil Country Tubular Goods, Other Than Drill Pipe, from Korea: Preliminary Results of Antidumping Duty Administrative Review, 72 FR 51793 (September 11, 2007) (Preliminary Results). This review covers the following manufacturers/exporters: Husteel Co., Ltd. (“Husteel”), SeAH Steel Corporation (“SeAH”), and Nexteel Co. Ltd. (Nexteel). Based on our analysis of the comments received, we have made changes to the Preliminary Results. For the final dumping margins see the “Final Results of Review” section below.

EFFECTIVE DATE: March 18, 2008.

FOR FURTHER INFORMATION CONTACT: Scott Lindsay, AD/CVD Operations, Office 6, Import Administration, International Trade Administration, U.S. Department of Commerce, 14th Street and Constitution Avenue, N.W., Washington, DC 20230, telephone: (202) 482-0780.

SUPPLEMENTARY INFORMATION:

Background

On June 22, 2007, pursuant to section 751(d)(2) of the Tariff Act of 1930 (“the Act”) and 19 CFR 351.222(i)(2)(i), the Department revoked this antidumping duty order effective July 25, 2006. See Oil Country Tubular Goods from Argentina, Italy, Japan, Korea, and Mexico; Revocation of Antidumping Duty Orders Pursuant to Second Five-year (Sunset) Reviews, 72 FR 34442-34443 (June 22, 2007) (Revocation). Therefore, the POR of this administrative review is August 1, 2005 through July 25, 2006.

On September 11, 2007, the Department published in the Federal Register the preliminary results of the administrative review of the antidumping duty order on OCTG from Korea. See Preliminary Results. Since the Preliminary Results, the following events have occurred. We received case briefs on October 11, 2007, and rebuttal briefs on October 16, 2007. On January 7, 2008, pursuant to section 751(a)(3)(A) of the Act, the Department extended the deadline for issuing the final results by 60 days to March 10, 2008. See Notice of Extension of Time Limit for Final Results of Administrative Review: Oil Country Tubular Goods, Other Than Drill Pipe, from Korea, 72 FR 1205 (January 7, 2007).

Scope of the Antidumping Duty Order

The products covered by this order are OCTG, hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under sub-headings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

As a result of changes to the Harmonized Tariff Schedule, effective February 2, 2007, the subject merchandise is also classifiable under the following additional HTS item numbers: 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.61.15, 7304.29.61.30, 7304.29.61.45, 7304.29.61.60, 7304.29.61.75, 7306.29.10.30, 7306.29.10.90, 7306.29.20.00, 7306.29.31.00, 7306.29.41.00, 7306.29.60.10, 7306.29.60.50, 7306.29.81.10, and 7306.29.81.50. The HTSUS sub-headings are provided for convenience and customs purposes only. The written description remains dispositive of the scope of the order.

Analysis of Comments Received

The issues raised in the case and rebuttal briefs by parties to this administrative review are addressed in the Issues and Decisions Memorandum for the Final Results of the Administrative Review of the Antidumping Duty Order on Oil Country Tubular Goods (“OCTG”) from Korea, March 10, 2008 (Issues and Decisions Memorandum), which is hereby adopted by this notice. The Issues and Decisions Memorandum is on file in the Central Records Unit (CRU), room 1117 of the Department of Commerce main building and can be accessed directly at http://ia.ita.doc.gov/frn. The paper copy and electronic version of the Issues and Decisions Memorandum are identical in content. A list of the issues addressed in the Issues and Decisions Memorandum is appended to this notice.

Changes Since the Preliminary Results

Based on our analysis of the comments received, we have made changes in the calculations for the final dumping margin. The changes are discussed in detail in the Issues and Decisions Memorandum and in the Memorandum from Scott Lindsay, Case Analyst, to the File: Analysis of Husteel Corporation (“Husteel”) for the Final Results of the Administrative Review of Oil Country Tubular Goods, Other Than Drill Pipe from Korea, and Memorandum from Scott Lindsay, Case Analyst, to the File: Analysis of SeaH Steel Corporation (“SeAH”) for the Final Results of the Administrative Review of Oil Country Tubular Goods, Other Than Drill Pipe from Korea, dated March 10, 2008, on file in the CRU. There were no changes related to Nexteel from the Preliminary Results.

Final Results of Review

As a result of our review, we determine that the following weighted-average margins exist for the period August 1, 2005, through July 25, 2006:

Manufacturer/Exporter | Margin (percent)
SeAH Steel Corporation | 0.65
Husteel Co., Ltd. | 0.29(de minimis)
Nexteel Co., Ltd. | 0.00

Cash Deposit Requirements

Pursuant to section 751(d)(2) of the Act and 19 CFR 351.222(i)(2)(i), the Department revoked this order and notified U.S. Customs and Border Protection (CBP) to discontinue suspension of liquidation and collection of cash deposits on entries of the subject merchandise entered or withdrawn from warehouse on or after July 25, 2006, the effective date of revocation of this antidumping duty AD order. See Revocation.

Assessment Rates

The Department will determine, and (CBP) shall assess, antidumping duties on all appropriate entries, pursuant to section 751(a)(1)(B) of the Act, and 19 CFR 351.212(b). The Department calculated importer- specific duty assessment rates (or, when the importer was unknown by the respondent, customer-specific duty assessment rates) on the basis of the ratio of the total amount of antidumping duties calculated for the examined sales observations involving each importer to the total entered value of the examined sales observations for that importer. The Department intends to issue assessment instructions to CBP 15 days after the date of publication of these final results of review.

The Department clarified its “automatic assessment” regulation on May 6, 2003. This clarification will apply to entries of subject merchandise during the POR produced by companies included in these final results of review for which the reviewed companies did not know their merchandise was destined for the United States. In such instances, we will instruct CBP to liquidate unreviewed entries at the “All Others” rate if there is no rate for the intermediate company(ies) involved in the transaction. For a discussion of this clarification, see Notice of Policy Concerning Assessment of Antidumping Duties, 68 FR 23954 (May 6, 2003).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the disposition of proprietary information disclosed under APO in accordance with 19 CFR 351.305(a). Timely written notification of the return/destruction of APO materials or conversion to judicial protective order is hereby requested. Failure to comply with the regulations and terms of an APO is a sanctionable violation.

These final results of administrative review and this notice are issued and published in accordance with sections 751(a)(1) and 777(i)(1) of the Act.

Dated: March 10, 2008.
David M. Spooner,
Assistant Secretary for Import Administration.

APPENDIX

List of Issues

1. Husteel's Profit and Selling Expense Ratios for Constructed Value

2. Adjustments to Husteel's G&A Expense Ratio

3. SeAH's Further Manufacturing and Selling Expense Ratios

[FR Doc. E8-5416 Filed 3-17-08; 8:45 am]

BILLING CODE 3510-DS-S